DEPARTMENT OF TRANSPORTATION

Federal Aviation Administration

14 CFR Part 39

[Docket No. 2000-CE-29-AD; Amendment 39-11918; AD 2000-20-07]

RIN 2120-AA64

Airworthiness Directives; Raytheon Aircraft Company Beech Models 1900, 1900C, and 1900D Airplanes

AGENCY: Federal Aviation Administration, DOT.

ACTION: Final rule.

SUMMARY: This amendment adopts a new airworthiness directive (AD) that applies to certain Raytheon Aircraft Company (Raytheon) Beech Models 1900, 1900C, and 1900D airplanes. This AD requires you to modify the cockpit voice recorder (CVR) system. This AD is the result of instances where the recording quality of the CVR in the affected airplanes was so poor that the information was practically unrecoverable. The actions specified by this AD are intended to correct substandard quality cockpit voice recordings caused by the configuration of the present CVR system, which could affect air safety if important information that the CVR provides is not available after an accident. This information helps determine the probable cause of an accident and aids in developing necessary corrective action or design changes to prevent future accidents.

DATES: This AD becomes effective on November 22, 2000.

The Director of the Federal Register approved the incorporation by reference of certain publications listed in the regulation as of November 22, 2000.

ADDRESSES: You may get the service information referenced in this AD from the Raytheon Aircraft Company, PO Box 85, Wichita, Kansas 67201-0085; telephone: (800) 625-7043 or (316) 676-4556.

You may examine this information at the Federal Aviation Administration (FAA), Central Region, Office of the Regional Counsel, Attention: Rules Docket No. 2000-CE-29-AD, 901 Locust, Room 506, Kansas City, Missouri 64106; or at the Office of the Federal Register, 800 North Capitol Street, NW, suite 700, Washington, DC.

FOR FURTHER INFORMATION CONTACT: Harvey E. Nero, Aerospace Engineer, Wichita Aircraft Certification Office, FAA, 1801 Airport Road, Mid-Continent Airport, Wichita, Kansas 67209; telephone: (316) 946-4137; facsimile: (316) 946-4407.

SUPPLEMENTARY INFORMATION:

Discussion

What caused this AD? The FAA has received reports of six instances where the recording quality of the cockpit voice recorder (CVR) system in Raytheon Beech Models 1900, 1900C, and 1900D airplanes was so poor that the information was practically unrecoverable.

Has FAA taken any action to this point? We issued a proposal to amend part 39 of the Federal Aviation Regulations (14 CFR part 39) to include an AD that would apply to certain Raytheon Beech Models 1900, 1900C, and 1900D. This proposal was published in the Federal Register as a notice of proposed rulemaking (NPRM) on June 14, 2000 (65 FR 37311). The NPRM proposed to require you to modify the cockpit voice recorder (CVR) system.

Accomplishment of the proposed action as specified in the NPRM would be required in accordance with Raytheon Recommended Service Bulletin SB 23-3094, Issued: November, 1999.

What is the potential impact if FAA took no action? This condition, if not corrected, could affect air safety if important information that the CVR provides is not available after an accident. This information helps determine the probable cause of an accident and aids in developing necessary corrective action or design changes to prevent future accidents.

Was the public invited to comment? The FAA encouraged interested persons to participate in the making of this amendment. The following presents the concerns received on the proposal and FAA's response to these concerns:

Comment Disposition

What is the commenter's concerns? The commenter requests that FAA:

• Clearly define in the AD that the CVR must be installed and not just the incorporation of a kit; and

• Identify all affected CVR's by manufacturer or model number.

The commenter operates several of the affected airplanes in a configuration of freight-only, single pilot. These airplanes incorporate supplemental type certificates that allow operation with nine or fewer passengers and freight conversions. Under section 135.151 of the Federal Aviation Regulations (14 CFR 135.151), this operator does not have to operate with a CVR. The commenter believes that FAA could eliminate confusion as to whether the AD applied if the Applicability of the AD was written to specify that the CVR must be installed. Then, if you installed the CVR in the future, you would have to comply with the AD.

The commenter believes that identifying the CVR by manufacturer or model number would also clarify the Applicability of the AD.

What is FAA's Response to the Concerns? We concur that specifying that the CVR must be installed would clarify the Applicability of the AD. We have changed the wording in the final rule accordingly.

We do not concur with including the manufacturer or model number of the CVR in the Applicability of the AD. The intent of the AD is to modify the configuration of the CVR system, which includes the wiring and audio amplifier. The AD applies regardless of the CVR unit make and model that is installed.

The FAA's Determination

What is FAA's final determination on this issue? We carefully reviewed all available information related to the subject presented above and determined that air safety and the public interest require the adoption of the rule as proposed except for the change discussed above and minor editorial changes. These changes provide the intent that was proposed in the NPRM for correcting the unsafe condition and do not impose any additional burden than what was intended in the NPRM.

Compliance Time of This AD

What is the compliance time of this AD? The compliance time of this AD is “within 12 months after the effective date of this AD.”

Why is the compliance in calendar time instead of hours time-in-service (TIS)? The unsafe condition defined in this document is not a result of the number of times the airplane is operated, rather is a result of the present configuration of the CVR system. The chance of this situation occurring is the same for an airplane with 100 hours time-in-service (TIS) as it is for an airplane with 1,000 hours TIS. For this reason, FAA has determined that a compliance based on calendar time should be utilized in this AD in order to assure that the unsafe condition is addressed on all airplanes in a reasonable time period.

Cost Impact

What is the cost impact of this AD on owners/operators of the affected airplanes? The following chart provides estimates of the cost this AD would impose upon the public:

Action | No. of airplanes affected | Labor costs | Parts cost | Cost impact
Replacement/Incorporation of Modification kit | 119 | 8 workhours at $60 per hour=$480 per airplane | $1,728 | $262,752, or $2,208 per airplane.
Audio Amplifier Modification and Electrical Wiring Changes | 377 | 8 workhours at $60 per hour=$480 per airplane | 679 | $436,943, or $1,159 per airplane.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

2000-20-07 Raytheon Aircraft Company (The Beech Aircraft Corporation previously held Type Certificate No. A24CE): Amendment 39-11918; Docket No. 2000-CE-29-AD.

(a) What airplanes are affected by this AD? The following airplane models and serial numbers that are certificated in any category and are required to have a cockpit voice recorder (CVR) installed:

Models | Serial No.
1900 and 1900C | All serial number airplanes with the applicable Raytheon Aircraft Company (RAC) Kit No. 114-3020 variation (−1, −3, −7, or −9) incorporated.
1900 and 1900C | All serial number airplanes with RAC Kit No. 114-3032-1 incorporated.
1900 and 1900C | All serial number airplanes with RAC Kit No. 114-3008-1 incorporated.
1900 and 1900C | All serial number airplanes where RAC installed the CVR.
1900D | UE-1 through UE-376.

(b) Who must comply with this AD? Anyone who wishes to operate any of the above airplanes on the U.S. Register must comply with this AD.

(c) What problem does this AD address? The actions specified in this document are intended to correct substandard quality cockpit voice recordings caused by the configuration of the present CVR system, which could affect air safety if important information that the CVR provides is not available after an accident. This information helps determine the probable cause of an accident and aids in developing necessary corrective action or design changes to prevent future accidents.

(d) What actions must I accomplish to address this problem? To address this problem, you must accomplish the following:

Action | Compliance time | Procedures
(1) Accomplish the CVR system modifications specified in Raytheon Recommended Servcie Bulletin SB 23-3094, Issued: November, 1999 | Within 12 months after the effective date of this AD | Do the modifications in accordance with procedures in the ACCOMPLISHMENT INSTRUCTIONS section of Raytheon Recommended Service bulletin SB 23-3094, Issued: November, 1999.
(2) Do not install a CVR on any of the affected airplanes without incorporating the modifications required by paragraph (d)(1) of this AD | As of the effective date of this AD | Not Applicable.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You may contact Harvey Nero, Aerospace Engineer, Wichita Aircraft Certification Office, FAA, 1801 Airport Road, Mid-Continent Airport, Wichita, Kansas 67209; telephone: (316) 946-4137; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Recommended Service Bulletin SB 23-3094, Issued: November, 1999. The Director of the Federal Register approved this incorporation by reference under 5 U.S.C. 552(a) and 1 CFR part 51. You can get copies from the Raytheon Aircraft Corporation, P.O. Box 85, Wichita, Kansas 67201-0085. You can look at copies at the FAA, Central Region, Office of the Regional Counsel, 901 Locust, Room 506, Kansas City, Missouri, or at the Office of the Federal Register, 800 North Capitol Street, NW, suite 700, Washington, DC.

(i) When does this amendment become effective? This amendment becomes effective on November 22, 2000.

Issued in Kansas City, Missouri, on September 26, 2000.
Michael K. Dahl,
Acting Manager, Small Airplane Directorate,, Aircraft Certification Service.

[FR Doc. 00-25148 Filed 10-5-00; 8:45 am]

BILLING CODE 4910-13-P